DEPARTMENT OF COMMERCE

International Trade Administration

[C-570-980]

Crystalline Silicon Photovoltaic Cells, Whether or Not Assembled Into Modules, From the People's Republic of China: Final Results and Partial Rescission of Countervailing Duty Administrative Review; 2019

AGENCY: Enforcement and Compliance, International Trade Administration, Department of Commerce.

SUMMARY: The U.S. Department of Commerce (Commerce) determines that countervailable subsidies are being provided to producers/exporters of crystalline silicon photovoltaic cells, whether or not assembled into modules (solar cells), from the People's Republic of China (China) during the period of review (POR) January 1, 2019, through December 31, 2019. Commerce is also rescinding this review with respect to fifty-four companies that had no reviewable entries during the POR.

DATES: Applicable July 7, 2022.

FOR FURTHER INFORMATION CONTACT: Robert Copyak, AD/CVD Operations, Office VII, Enforcement and Compliance, International Trade Administration, U.S. Department of Commerce, 1401 Constitution Avenue NW, Washington, DC 20230; telephone: (202) 482-3642.

SUPPLEMENTARY INFORMATION:

Background

On January 6, 2022, Commerce published the Preliminary Results of this administrative review.¹ On April 19, 2022, we extended the time limit for the final results.² On May 6, 2022, we issued a Post-Preliminary Results Analysis Memorandum, and we invited comments from interested parties on both the Preliminary Results and the Post-Preliminary Analysis Memorandum.³ We received timely case briefs from the following interested parties: (1) mandatory respondent JA Solar Technology Yangzhou Co., Ltd. (JA Solar); ⁴ (2) the Government of China (GOC); ⁵ (3) domestic interested party the American Alliance for Solar Manufacturing (the Alliance); ⁶ and (4) mandatory respondent Risen Energy Co. Ltd. (Risen).⁷ Trina Solar Co, Ltd. and seven of its cross-owned companies (collectively, Trina) filed a letter in lieu of case brief.⁸ On May 25, 2022, we received timely rebuttal briefs from: (1) the Alliance,⁹ (2) the GOC,¹⁰ (3) Risen,¹¹ and (4) JA Solar.¹² On June 14, 2022, we conducted a public hearing.¹³

¹ See Crystalline Silicon Photovoltaic Cells, Whether or Not Assembled Into Modules, from the People's Republic of China: Preliminary Results of Countervailing Duty Administrative Review and Rescission of Review, in Part; 2019, 87 FR 748 (January 23, 2022) (Preliminary Results), and accompanying Preliminary Decision Memorandum (PDM).

² See Memorandum, “Extension of Time Limit for Final Results of Countervailing Duty Administrative Review,” dated April 19, 2022.

³ See Memorandum, “Post-Preliminary Results Analysis Memorandum,” dated May 6, 2022 (Post-Preliminary Results Analysis Memorandum), at 8.

⁴ See JA Solar's Letter, “Case Brief,” dated May 16, 2022.

⁵ See GOC's Letter, “Case Brief,” dated May 16, 2022.

⁶ See The Alliance's Letter, “Case Brief,” dated May 16, 2022.

⁷ See Risen's Letter, “Case Brief-Resubmitted,” dated June 2, 2022.

⁸ See JA Trina's Letter, “Letter in Lieu of Case Brief,” dated May 16, 2022. These seven companies are: Trina Solar (Changzhou) Science and Technology Co., Ltd.; Yancheng Trina Guoneng Photovoltaic Technology Co., Ltd. (formerly Yancheng Trina Solar Energy Technology Co., Ltd.); Hubei Trina Solar Energy Co., Ltd., Turpin Trina Solar Energy Co., Ltd.; Trina Solar (Hefei) Science and Technology Co., Ltd.; Trina Solar Hezhong Photoelectric Co., Ltd.; and Changzhou Trina Solar Yabang Energy Co. Ltd.

⁹ See The Alliance's Letter, “Rebuttal Brief,” dated May 25, 2022.

¹⁰ See the GOC's Letter, “Rebuttal Brief,” dated May 25, 2022.

¹¹ See Risen's Letter, “Rebuttal Brief,” dated May 25, 2022.

¹² See JA Solar's Letter, “Rebuttal Case Brief,” dated May 25, 2022.

¹³ See Commerce's Letter, “Public Hearing Schedule,” dated June 2, 2022; see also Transcript, “Public Hearing,” dated June 14, 2022.

Scope of the Order

The products covered by the Order are solar cells from China.¹⁴ For a full description of the scope of the Order, see the Issues and Decision Memorandum.¹⁵

¹⁴ On December 7, 2012, the Order was published. See Crystalline Silicon Photovoltaic Cells, Whether or Not Assembled into Modules, from the People's Republic of China: Countervailing Duty Order, 77 FR 73017 (December 7, 2012). On December 17, 2021, based on a changed circumstances review, the Order was amended. See Crystalline Silicon Photovoltaic Cells, Whether or Not Assembled into Modules, from the People's Republic of China: Final Results of Changed Circumstances Reviews, and Revocation of the Antidumping and Countervailing Duty Orders, in Part, 86 FR 71615 (December 21, 2021) (Order).

¹⁵ See Memorandum, “Issues and Decision Memorandum for the Final Results and Partial Recission of the Administrative Review of the Countervailing Duty Order on Crystalline Silicon Photovoltaic Cells, Whether or Not Assembled into Modules, from the People's Republic of China; 2019,” dated concurrently with, and hereby adopted by, this notice (Issues and Decision Memorandum).

Analysis of Comments Received

All issues raised in the interested parties' briefs are addressed in the Issues and Decision Memorandum. A list of topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

After evaluating the comments received from interested parties and record information, we made certain changes from the Preliminary Results regarding the calculations of Risen and JA Solar's program rates. These changes are explained in the Issues and Decision Memorandum.

Methodology

Commerce conducted this administrative review in accordance with section 751(a)(1)(A) of the Tariff Act of 1930, as amended (the Act). For each subsidy program found to be countervailable, Commerce finds that there is a subsidy, i.e., a financial contribution from a government or public entity that gives rise to a benefit to the recipient, and that the subsidy is specific.¹⁶ For a description of the methodology underlying all of Commerce's conclusions, including any determination that relied upon the use of adverse facts available pursuant to section 776(a) and (b) of the Act, see the Issues and Decision Memorandum.

¹⁶ See sections 771(5)(B) and (D) of the Act regarding financial contribution; section 771(5)(E) of the Act regarding benefit; and section 771(5A) of the Act regarding specificity.

Partial Rescission of Administrative Review

It is Commerce's practice to rescind an administrative review of a countervailing duty order, pursuant to 19 CFR 351.213(d)(3), when there are no reviewable entries of subject merchandise during the POR for which liquidation is suspended.¹⁷ Normally, upon completion of an administrative review, the suspended entries are liquidated at the countervailing duty assessment rate calculated for the review period.¹⁸ Therefore, for an administrative review of a company to be conducted, there must be a reviewable, suspended entry that Commerce can instruct U.S. Customs and Border Protection (CBP) to liquidate at the calculated countervailing duty assessment rate calculated for the review period.¹⁹

¹⁷ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

¹⁸ See 19 CFR 351.212(b)(2).

¹⁹ See 19 CFR 351.213(d)(3).

We continue to find that fifty-four companies subject to this review did not have reviewable entries of subject merchandise for which liquidation is suspended. Because there is no evidence on the record to indicate that these companies had entries, exports, or sales of subject merchandise during the POR, we are rescinding this review with respect to these companies consistent with 19 CFR 351.213(d)(3). See Appendix III for a complete list of these companies.

Companies Not Selected for Individual Review

The Act and Commerce's regulations do not directly address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies which were not selected for individual examination in an administrative review. Section 777A(e)(2) of the Act provides that “the individual countervailable subsidy rates determined under subparagraph (A) shall be used to determine the all-others rate under section 705(c)(5) {of the Act}.” Under section 705(c)(5)(A) of the Act, the all-others rate is normally “an amount equal to the weighted average of the countervailable subsidy rates established for exporters and producers individually investigated, excluding any zero or de minimis countervailable subsidy rates, and any rates determined entirely {on the basis of facts available}.”

For these final results, we calculated above de minimis rates for Risen and JA Solar. Therefore, for the remaining companies under review (i.e., the companies for which we did not receive a timely request for withdrawal of review and which we are not finding to be cross-owned with the mandatory respondents), we calculated the all-others rate using a simple average of the individual subsidy rates calculated for the two mandatory respondents to be 15.75 percent ad valorem. See Appendix II for a complete list of these companies.

Final Results of Administrative Review

In accordance with 19 CFR 351.221(b)(5), Commerce calculated a countervailable subsidy rate for the two mandatory company respondents, Risen and JA Solar.

We determine that, for the period January 1, 2019, through December 31, 2019, the following net countervailable subsidy rates exist:

Producer/exporter | Subsidy rate (percent ad valorem)
JA Solar Technology Yangzhou Co., Ltd. (JA Solar) ²⁰ | 18.58
Risen Energy Co., Ltd.²¹ | 12.92
Non-Selected Companies ²² | 15.75

Disclosure

²⁰ JA Solar is cross-owned with the following 35 companies: (1) Shanghai JA Solar Technology Co., Ltd. (JA Shanghai); (2) JA (Hefei) Renewable Energy Co., Ltd. (Hefei Renewable); (3) Hefei JA Solar Technology Co., Ltd. (JA Hefei); (4) JA Solar Investment China Co., Ltd. (J A Investment); (5) JA Solar Technology Yangzhou Co., Ltd. (JA Solar); (6) Jing Hai Yang Semiconductor Material (Donghai) Co., Ltd. (Jing Hai Yang); (7) Donghai JingAo Solar Energy Science and Technology Co., Ltd. (JA Donghai); (8) Solar Silicon Valley Electronic Science and Technology Co., Ltd. (Solar Silicon Valley); (9) Beijing Jinfeng Investment Co., Ltd. (Beijing Jinfeng); (10) JingAo Solar Co., Ltd. (JingAo Solar); (11) Ningjin Songgong Electronic Materials Co., Ltd. (Songgong Electronic Materials); (12) Jinglong Industry and Commerce Group Co., Ltd. (Jinglong Group); (13) Ningjin County Jingyuan New Energy Investment Co., Ltd. (Ningjin Jingyuan); (14) Hebei Jinglong New Materials Technology Group Co., Ltd. (Jinglong New Materials); (15) Hebei Jinglong Sun Equipment Co. Ltd. (Hebei Jinglong); (16) Hebei Jingle Optoelectronic Technology Co., Ltd. (Hebei Jingle); (17) Ningjin Jingxing Electronic Material Co., Ltd. (Ningjin Jingxing); (18) Ningjin Saimei Ganglong Electronic Materials Co., Ltd. (Saimei Ganglong); (19) Hebei Ningtong Electronic Materials Co., Ltd. (Hebei Ningtong); (20) JA Solar (Xingtai) Co., Ltd. (JA Xingtai); (21) Xingtai Jinglong Electronic Material Co., Ltd. (Jinglong Electronic Materials); (22) Xingtai Jinglong PV Materials Co., Ltd. (Jinglong PV Materials); (23) JA PV Technology Co., Ltd. (PV Technology); (24) Ningjin Jinglong PV Industry Investment Co., Ltd. (Jinglong PV Investment); (25) Baotou JA Solar Technology Co., Ltd. (JA Baotou); (26) Xingtai Jinglong New Energy Co., Ltd. (Jinglong New Energy); (27) Ningjin County Jing Tai Fu Technology Co., Ltd. (Jing Tai Fu); (28) JA Solar Technology Co., Ltd. (JA Technology); (29) Jinglong Technology Holdings Co., Ltd. (Jinglong Technology); (30) Ningjin Guiguang Electronics Investment Co., Ltd. (Ningjin Guiguang); (31) Ningjin Longxin Investment Co., Ltd. (Longxin Investment); (32) Beijing JA Solar PV Technology Co., Ltd. (JA Beijing); (33) Solar Silicon Peak Electronic Science and Technology Co., Ltd. (Solar Silicon Peak); (34) Jingwei Electronic Materials Co., Ltd.; and (35) Taicang Juren PV Material Co., Ltd. See the Preliminary Results PDM.

²¹ Risen is cross-owned with the following 13 companies: (1) Risen Energy Co., Ltd. (Risen); (2) Risen (Luoyang) New Energy Co., Ltd.; (3) Risen (Wuhai) New Energy Co., Ltd.; (4) Risen Energy (Changzhou) Co., Ltd.; (5) Risen Energy (Yiwu) Co., Ltd.; (6) Zhejiang Boxin Investment Co., Ltd.; (7) Zhejiang Twinsel Electronic Technology Co., Ltd. (8) JiuJiang Shengchao Xinye Technology Co., Ltd. (including JiuJang Shengshao Xinye Technology Co., Ltd. Ruichang Branch); (9) Jiangsu Sveck New Material Co., Ltd.; (10) Changzhou Sveck Photovoltaic New Material Co., Ltd.; (11) (including Changzhou Sveck Photovoltaic New Material Co., Ltd. Jintan Danfeng Road Branch); (12) Changzhou Sveck New Material Technology Co., Ltd.; Ninghai Risen Energy Power Development Co., Ltd., and (13) Risen (Ningbo) Electric Power Development Co., Ltd. See the Preliminary Results PDM.

²² See Appendix II of this notice for a list of all companies that remain under review but were not selected for individual examination, and to which Commerce has assigned the non-selected companies' rate.

Commerce will disclose to the parties in this proceeding the calculations performed for these final results within five days of the date of publication of this notice in the Federal Register.²³

²³ See 19 CFR 351.224(b).

Assessment Rates

Pursuant to sections 751(a)(1) and (a)(2)(C) of the Act and 19 CFR 351.212(b), Commerce shall determine, and CBP shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded, Commerce will instruct CBP to assess countervailing duties on all appropriate entries at a rate equal to the cash deposit of estimated countervailing duties required at the time of entry, or withdrawal from warehouse, for consumption, during the POR in accordance with 19 CFR 351.212(c)(l)(i).

Cash Deposit Instructions

In accordance with section 751(a)(1) and (a)(2)(C) of the Act, Commerce intends to instruct CBP to collect cash deposits of estimated countervailing duties in the amounts shown for the companies listed above on shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposits, when imposed, shall remain in effect until further notice.

Administrative Protective Order

This notice also serves as a reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

Commerce is issuing and publishing these results in accordance with sections 751(a)(1) and 777(i)(1) of the Act, and 19 CFR 351.221(b)(5).

Dated: June 29, 2022.
Ryan Majerus,
Deputy Assistant Secretary for Policy and Negotiations.

Appendix I

List of Topics Discussed in the Issues and Decision Memorandum

I. Summary

II. Background

III. Scope of the Order

IV. Rescission of the Administrative Review, in Part

V. Rate for Non-Selected Companies Under Review

VI. Use of Facts Available and Application of Adverse Inferences

VII. Changes Since the Preliminary Results

VIII. Subsidies Valuation Information

IX. Analysis of Programs

X. Discussion of Comments

Comment 1: Whether Commerce Should Apply Adverse Facts Available (AFA) to the Export Buyer's Credit Program (EBCP)

Comment 2: Whether the EBCP Should be Treated as an Export Program

Comment 3: Whether Input Producers of Solar Grade Polysilicon, Aluminum Extrusions, and Solar Glass are Authorities

Comment 4: Whether the Provision of Electricity for Less than Adequate Remuneration (LTAR) Program is Countervailable

Comment 5: Whether “Other Subsidies” are Countervailable

Comment 6: Whether Commerce Should Find that the Renminbi (RMB) is Not Undervalued

Comment 7: Whether Commerce Should Alter the Ocean Freight Benchmark Calculations

Comment 8: Whether Commerce Should Alter the Benchmark Calculations for the Provision of Solar Glass for LTAR Program

Comment 9: Whether Commerce Should Alter the Benchmark Calculations for the Provision of Aluminum Extrusions for LTAR Program

Comment 10: Whether Commerce Should Change the Inland Freight Values Used for the Benefit Calculations of the Provision of Solar Glass, Aluminum Extrusions, and Solar Grade Polysilicon for LTAR Programs

Comment 11: Whether Commerce Should Adjust the Benefit Calculations for the Other Subsidy Programs

Comment 12: Whether Commerce Should Exclude Risen's Other Business Revenue from Risen's Sales Denominators

Comment 13: Whether Commerce Should Tie Benefits from the Provision of International Ocean Shipping Services for LTAR Program to Specific Markets or Products

Comment 14: Whether the Provision of International Ocean Shipping Services for LTAR Program is Specific

Comment 15: Whether Commerce Should Apply AFA to Determine that Government of China (GOC0 Authorities Provided a Financial Contribution for All of the Respondents' Purchases Under the of International Ocean Shipping Services for LTAR Program

Comment 16: Whether Commerce Should Make Changes to the Calculations of JA Solar and Risen's Sales Denominators

Comment 17: Whether Commerce Should Make Changes to Its Land Benchmark Calculations

Comment 18: Whether Commerce Should Treat Benefits from JA Solar's Leases as Recurring and Revise the Benchmark Used for the Provision of Land for LTAR Program Benefit Calculations for Leases

Comment 19: Whether Commerce Should Determine that JA Solar is Creditworthy

Comment 20: Whether Commerce Should Revise its Determination on the Tax Exemptions Under the Article 26(2) of the Enterprise Income Tax Law Program

Comment 21: Whether Commerce Should Remove VAT from the Solar Glass Benchmark Used to Calculate the Benefit from the Provision of Solar Glass for LTAR to JA Shanghai

Comment 22: Whether Commerce Should Correct Certain Errors in JA Solar's Calculations

Comment 23: Whether Commerce Should Correct Certain Errors in Risen's Calculations

XI. Recommendation

Appendix II

Non-Selected Companies Under Review

1. Canadian Solar International Limited

2. Canadian Solar Manufacturing (Changshu) Inc.

3. Canadian Solar Manufacturing (Luoyang) Inc.

4. Chint Solar (Zhejiang) Co., Ltd.

5. CSI Cells Co., Ltd.

6. CSI-GCL Solar Manufacturing (Yancheng) Co., Ltd.

7. Hengdian Group DMEGC Magnetics Co., Ltd.

8. Jinko Solar Co., Ltd.

9. Jinko Solar Import and Export Co., Ltd.

10. LONGi Solar Technology Co., Ltd.

11. Suntech Power Co., Ltd.

12. Yingli Energy (China) Co., Ltd.

Appendix III

Intent To Rescind Review, In Part

1. Astronergy Co., Ltd.

2. Astronergy Solar

3. Baoding Jiasheng Photovoltaic Technology Co., Ltd.

4. Baoding Tianwei Yingli New Energy Resources Co., Ltd.

5. Boviet Solar Technology Co., Ltd.

6. BYD (Shangluo) Industrial Co., Ltd.

7. Chint New Energy Technology (Haining) Co., Ltd.

8. Chint Solar (Hong Kong) Company Limited

9. Chint Solar (Jiuquan) Co., Ltd.

10. CSI Modules (Dafeng) Co., Ltd.

11. DelSolar (Wujiang) Ltd.

12. DelSolar Co., Ltd.

13. De-Tech Trading Limited HK

14. Dongguan Sunworth Solar Energy Co., Ltd.

15. Eoplly New Energy Technology Co., Ltd.

16. ERA Solar Co., Ltd.

17. ET Solar Energy Limited

18. Fuzhou Sunmodo New Energy Equipment Co., Ltd.

19. GCL System Integration Technology Co. Ltd

20. Hainan Yingli New Energy Resources Co., Ltd.

21. Hangzhou Sunny Energy Science and Technology Co., Ltd.

22. Hengshui Yingli New Energy Resources Co., Ltd.

23. Jiangsu High Hope Int'l Group

24. Jinko Solar International Limited

25. JinkoSolar Technology (Haining) Co., Ltd.

26. LERRI Solar Technology Co., Ltd.

27. LightWay Green New Energy Co., Ltd.

28. Lixian Yingli New Energy Resources Co., Ltd.

29. Longi (HK) Trading Ltd.

30. Ningbo ETDZ Holdings, Ltd.

31. ReneSola Jiangsu Ltd.

32. Renesola Zhejiang Ltd.

33. Shenzhen Yingli New Energy Resources Co., Ltd.

34. Sumec Hardware & Tools Co., Ltd.

35. Sunpreme Solar Technology (Jiaxing) Co., Ltd.

36. Suntimes Technology Co., Limited

37. Systemes Versilis, Inc.

38. Taimax Technologies Inc.

39. Talesun Energy

40. Talesun Solar

41. tenKsolar (Shanghai) Co., Ltd.

42. Tianjin Yingli New Energy Resources Co., Ltd.

43. Tianneng Yingli New Energy Resources Co., Ltd.

44. Toenergy Technology Hangzhou Co., Ltd.

45. Yingli Green Energy International Trading Company Limited

46. Zhejiang ERA Solar Technology Co., Ltd.

47. Zhejiang Jinko Solar Co., Ltd.

48. Zhejiang Sunflower Light Energy Science & Technology Limited Liability Company

49. Trina Solar Co., Ltd. (formerly Changzhou Trina Solar Energy Co., Ltd.) ²⁴

²⁴ During the administrative review, this company was imprecisely referred to as Trina Solar Energy Co. Ltd. See Trina Solar's Letter, “Letter in Lieu of Case Brief,” dated May 16, 2022.

50. Changzhou Trina Solar Yabang Energy Co., Ltd.

51. Trina Solar (Changzhou) Science and Technology Co., Ltd.

52. Turpan Trina Solar Energy Co., Ltd.

53. Hubei Trina Solar Energy Co., Ltd.

54. Yancheng Trina Solar Energy Technology Co., Ltd.

[FR Doc. 2022-14420 Filed 7-6-22; 8:45 am]

BILLING CODE 3510-DS-P